DEPARTMENT OF THE INTERIOR

Bureau of Land Management

[NM110-1430-ET; NMNM 94904]

Public Land Order No. 7622; Partial Revocation of Public Land Order No. 7291; New Mexico

AGENCY: Bureau of Land Management, Interior.

ACTION: Public land order.

SUMMARY: This order partially revokes Public Land Order No. 7291 insofar as it affects 514.15 acres of public lands and 428.30 acres of federally reserved mineral interest underlying private surface estate withdrawn to protect an area having potential for the development of humate.

EFFECTIVE DATE: February 7, 2005.

FOR FURTHER INFORMATION CONTACT: Debby Lucero, BLM Albuquerque Field Office, 435 Montano NE, Albuquerque, New Mexico 87107, (505) 761-8700.

SUPPLEMENTAL INFORMATION: The partial revocation is needed to reinstate a mining claim located on the subject lands and settle ongoing litigation.

Order

By virtue of the authority vested in the Secretary of the Interior by section 204 of the Federal Land Policy and Management Act of 1976, 43 U.S.C. 1714 (2000), it is ordered as follows:

1. Public Land Order No. 7291, is hereby revoked insofar as it affects the following described public lands withdrawn to protect an area having potential for development of humate:

New Mexico Principal Meridian

T. 19 N., R. 1 W.,

Sec. 4, lots 1 and 3, S½NE¼, SE¼NW¼, E½SW¼, and SE¼.

The areas described aggregate 514.30 acres in Sandoval County.

2. Public Land Order No. 7291, is hereby revoked insofar as it affects the federally reserved mineral interests in the following described lands withdrawn to protect an area having potential for development of humate:

New Mexico Principal Meridian

T. 19 N., R. 1 W.,

Sec. 4, lot 2;

Sec. 9, E½, and E½W½.

The areas described aggregate 428.30 acres in Sandoval County.

3. At 10 a.m. on February 7, 2005, the lands described in paragraph 1 will be opened to the operation of the public land laws generally, subject to valid existing rights, the provisions of existing withdrawals, other segregations of record, and the requirements of applicable law. All valid applications received at or prior to 10 a.m. on February 7, 2005, shall be considered as simultaneously filed at that time. Those received thereafter shall be considered in the order of filing.

4. At 10 a.m. on February 7, 2005, the lands described in paragraphs 1 and 2 will be opened to location and entry under the United States mining laws, subject to valid existing rights, the provisions of existing withdrawals, other segregations of record, and the requirements of applicable law. Appropriation of any of the lands described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: December 20, 2004.
Rebecca W. Watson,
Assistant Secretary—Land and Minerals Management.

[FR Doc. 05-326 Filed 1-6-05; 8:45 am]

BILLING CODE 4310-FB-P